DEPARTMENT OF HOUSING AND URBAN DEVELOPMENT

[Docket No. FR-5750-N-43]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Connie Lotfi, Air Force Real Property Agency, 143 Billy Mitchell Blvd., San Antonio, TX 78226, (210) 925-3047; ENERGY: Mr. David Steinau, Department of Energy, Office of Property Management, 1000 Independence Ave. SW., Washington, DC 20585 (202) 287-1503; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202)-358-1124; NAVY: Mr. Steve Matteo, Department of the Navy, Asset Management Division, Naval Facilities Engineering Command, Washington Navy Yard, 1330 Patterson Ave. SW., Suite 1000, Washington, DC 20374; (202) 685-9426 (These are not toll-free numbers).

Dated: October 16, 2014.
Brian P. Fitzmaurice,
Director, Division of Community Assistance, Office of Special Needs Assistance Programs.

TITLE V, FEDERAL SURPLUS PROPERTY PROGRAM, FEDERAL REGISTER REPORT FOR 10/24/2014

Suitable/Available Properties

Building

Arkansas

Tract 01-129, Caruso Property

708 Prospect Avenue

Hot Springs AR 71901

Landholding Agency: Interior

Property Number: 61201440001

Status: Unutilized

Comments: Off-site removal only; maybe extremely difficult to move; 100+ yrs. old; 13086 sq. ft.; fair condition; residential; no public access; contact Interior for more information.

California

Mariposa Grove Ticket Booth

2 Miles on the Mariposa Grove Rd. CA. State

Hwy 41

Yosemite CA

Landholding Agency: Interior

Property Number: 61201440008

Status: Unutilized

Comments: Off-site removal only; 24+ yrs. old; 48 aq. ft.; well maintained; wood structure; ticket sales booth; no future agency needed.

Mariposa Grove Gift Shop

2 Miles on the Mariposa Grove Rd.

CA State Hwy 41

Yosemite CA

Landholding Agency: Interior

Property Number: 61201440009

Status: Unutilized

Comments: Off-site removal only; 54+ yrs. old; 825 sq. ft.; wood structure; well maintained; gift & snack shop; no future agency needed.

Oklahoma

District Office—Arbuckle

Project Oklahoma

2440 East Main

Davis OK 73030

Landholding Agency: Interior

Property Number: 61201440007

Status: Unutilized

Comments: Off-site removal only; 48+ yrs. old; brick; maybe difficult to remove; 1,536 sq. ft.; office; foundation cracked; termites; asbestos; contact Interior for more information.

Suitable/Unavailable Properties

Land

California

Marine Corps Base, Camp Lejeune, NC

Intersection of NC HWY 24 & Montford Point Rd

Camp Lejeune CA

Landholding Agency: Navy

Property Number: 77201440009

Status: Underutilized

Comments: 2 acres current use buffer; flat; contact Navy for additional information.

Unsuitable Properties

Building

California

B4863 Inspector General Office

AFRC on Edwards AFB

AFB CA

Landholding Agency: NASA

Property Number: 71201440004

Status: Excess

Comments: Public access denied and no alternative method to gain access w/out compromising Nat'l security.

Reasons: Secured Area

T-72—Trailer M.S.B.L.S.

AFRC on Edwards AFB

AFB CA

Landholding Agency: NASA

Property Number: 71201440005

Status: Excess

Comments: public access denied and no alternative method to gain access w/out compromising Nat'l Security.

Reasons: Secured Area

Building 310

4600 Belleau Ave. B-224

San Diego CA 92140

Landholding Agency: Navy

Property Number: 77201440008

Status: Excess

Comments: documented deficiencies; external cracking/damage; clear threat to personal physical safety.

Reasons: Extensive deterioration

Building 239

4600 Belleau Ave. B-224

San Diego CA 92140

Landholding Agency: Navy

Property Number: 77201440010

Status: Excess

Comments: due to anti-terrorism force/protection; public access denied and no alternative method to gain access without compromising national security.

Reasons: Secured Area

Florida

Tract 500-1,Chekika Campground

Comfort Station, East Everglades District

23681 SW 160th St.

Miami FL 33187

Landholding Agency: Interior

Property Number: 61201440002

Status: Unutilized

Comments: property located in the floodway of a 100 year floodplain.

Reasons: Floodway

Building 703, East Everglades

District

16850 SW 237th Ave.

Miami FL 33187

Landholding Agency: Interior

Property Number: 61201440003

Status: Unutilized

Comments: documented deficiencies: Sustained a major fire on 9/7/14 & is gutted; represent a clear threat to personal physical safety.

Reasons: Extensive deterioration

Tract 500-01, Chekika Picnic

Aria Comfort Station E. Everglades District

23682 SW 160th St.

Miami FL 33187

Landholding Agency: Interior

Property Number: 61201440004

Status: Unutilized

Comments: property located in the Floodway of a 100 year floodplain.

Reasons: Floodway

Tract 507-01, Former E.

Everglades District Ranger Station

16800 SW 237th Ave.

Miami FL 33187

Landholding Agency: Interior

Property Number: 61201440005

Status: Unutilized

Comments: property located in the Floodway of a 100 year floodplain.

Reasons: Floodway

Tract 92-112, Pine Island

District Long Pine Key Camptenders Quarters

Off Park Route 228

Miami FL 33187

Landholding Agency: Interior

Property Number: 61201440006

Status: Unutilized

Comments: property located in the Floodway of a 100 year floodplain.

Reasons: Floodway

Oklahoma

Caretakers Residence and Shed

1 Mile East

Davis OK 73030

Landholding Agency: Interior

Property Number: 61201440010

Status: Underutilized

Comments: documented deficiencies; foundation cracked; interior & exterior walls cracked; termites; condition represents clear threat to personal physical safety.

Reasons: Extensive deterioration

Tennessee

Nashville IAP Fac. 808

240—Knapp Blvd.

Nashville TN 37217

Landholding Agency: Air Force

Property Number: 18201440001

Status: Underutilized

Comments: public access denied and no alternative method to gain access w/out compromising Nat'l Security.

Reasons: Secured Area

Nashville IAP, Fac. 809

240 Knapp Blvd.

Nashville TN 37217

Landholding Agency: Air Force

Property Number: 18201440002

Status: Underutilized

Comments: public access denied and no alternative method to gain access w/out compromising Nat'l Security.

Reasons: Secured Area

Texas

Pump Houses

Buildings 12-017P1, 12-017P2, 12-019P

Amarillo TX 79120

Landholding Agency: Energy

Property Number: 41201440002

Status: Unutilized

Comments: public access denied & no alternative method to gain access w/out compromising Nat'l Sec.

Reasons: Secured Area

Firing Site & Support Facility

Pantex Plant FS-004, FS-004A

Amarillo TX 79120

Landholding Agency: Energy

Property Number: 41201440003

Status: Unutilized

Comments: public access denied & no alternative method to gain access w/out compromising Nat'l Sec.

Reasons: Secured Area

[FR Doc. 2014-25112 Filed 10-23-14; 8:45 am]

BILLING CODE 4210-67-P